DEPARTMENT OF JUSTICE

Office of Justice Programs

[OJP (OJJDP) Docket No. 1827]

Charter Renewal of the Federal Advisory Committee on Juvenile Justice

AGENCY: Office of Juvenile Justice and Delinquency Prevention, Office of Justice Programs, Department of Justice.

ACTION: Notice of charter renewal.

SUMMARY: Notice that the charter of the Federal Advisory Committee on Juvenile Justice has been renewed.

FOR FURTHER INFORMATION CONTACT: Visit the website for the Federal Advisory Committee on Juvenile Justice at https://facjj.ojp.gov/ or contact Maegen Barnes, Project Manager/Federal Contractor, by telephone (732) 948-8862, email at Maegen.Currie@usdoj.gov; or Julie Herr, Designated Federal Official (DFO), OJJDP, by telephone at (202) 598-6885, email at Julie.Herr@usdoj.gov. Please note that the above phone numbers are not toll free.

SUPPLEMENTARY INFORMATION: This Federal Register Notice notifies the public that the Charter of the Federal Advisory Committee on Juvenile Justice has been renewed in accordance with the Federal Advisory Committee Act, section 14(a)(1). The Federal Advisory Committee on Juvenile Justice Charter was renewed on June 5, 2024. One can obtain a copy of the renewal Charter by accessing the Federal Advisory Committee on Juvenile Justice's website at www.facjj.ojp.gov.

Julie Herr,
Designated Federal Official, Office of Juvenile Justice and Delinquency Prevention.

[FR Doc. 2024-14141 Filed 6-26-24; 8:45 am]

BILLING CODE 4410-18-P